DEPARTMENT OF TRANSPORTATION

Federal Aviation Administration

Fourth Plenary Meeting, NextGen Mid-Term Implementation Task Force

AGENCY: Federal Aviation Administration (FAA), DOT.

ACTION: Notice of NextGen Mid-Term Implementation Task Force meeting.

SUMMARY: The FAA is issuing this notice to advise the public of a meeting of the NextGen Mid-Term Implementation Task Force.

DATES: The meeting will be held June 9, 2009 starting at 1 a.m. to 4 p.m. Arrive in FAA Lobby at 12:30 p.m. for visitor check in.

ADDRESSES: FAA Auditorium, Federal Aviation Administration, 800 Independence Avenue, SW., Washington, DC 20591.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a NextGen Mid-Term Implementation Task Force meeting. The agenda will include:

• Opening Plenary (Welcome and Introductions);

• Work Group and Subgroup Status Reports and Planned Activities;

• Discussion and Next Steps;

• Closing Plenary (Other Business, Document Production, Date and Place of Next Meeting, Adjourn).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 13, 2009.
Francisco Estrada C.,
RTCA Advisory Committee.

[FR Doc. E9-6172 Filed 3-19-09; 8:45 am]

BILLING CODE 4910-13-P